DEPARTMENT OF EDUCATION

Office of Elementary and Secondary Education; Overview Information Comprehensive Centers—Great Lakes West Region; Notice Inviting Applications for New Awards for Fiscal Year (FY) 2006

Catalog of Federal Domestic Assistance (CFDA) Number: 84.283B.

DATES: Applications Available: October 13, 2005.

Deadline for Transmittal of Applications: November 28, 2005.

Deadline for Intergovernmental Review: December 27, 2005.

Eligible Applicants: Research organizations, institutions, agencies, institutions of higher education, or partnerships among such entities, or individuals, with the demonstrated ability or capacity to carry out the activities described in this notice. An application from a consortium of eligible entities must include a consortium agreement. Letters of support do not meet the requirement for a consortium agreement.

Note: The Department will reject any application that does not meet these eligibility requirements.

Number of Awards: 1.

Estimated Available Funds: $1,243,322 for a start-up award of approximately 6 months. The actual level of funding, if any, is contingent on final congressional action on the Department's FY 2006 appropriations bill.

Estimated Size of Award: $1,243,322. Funding for the Regional Center (as defined in Section I of this notice) for the Great Lakes West region was calculated by formula, based equally on shares of population and poor children, ages 5-17 in the States (including DC, Puerto Rico, and the Outlying Areas). The most recent Department estimates for awards to the comprehensive centers, including the Great Lakes Regional Center, are provided at: http://www.ed.gov/programs/newccp/index.html.

Note: The Department is not bound by any estimates in this notice.

Project Period: Up to 57 months.

Budget Period: The first budget period will be approximately six months. Budget periods 2 through 4 will be 12 months. Budget period 5 will be 15 months.

Full Text of Announcement

I. Funding Opportunity Description

Purpose of Program: The Comprehensive Centers program supports the establishment of not fewer than 20 comprehensive technical assistance centers that provide technical assistance to States as States work to help districts and schools to close achievement gaps in core content areas and raise student achievement in schools, especially those in need of improvement (as defined by section 1116(b) of the Elementary and Secondary Act of 1965, as amended (ESEA)).

Background: On June 3, 2005, the Department published a notice announcing a competition for the Comprehensive Centers program (70 FR 32583; correction notice 70 FR 35415). The notice invited applications for 21 comprehensive centers—16 regional comprehensive centers to serve States within defined geographic boundaries (Regional Centers) and 5 content comprehensive centers, each having a specific content expertise and focus, to support the work of the Regional Centers (Content Centers). The comprehensive centers provide technical assistance to States as States work to help districts and schools to close achievement gaps in core content areas and raise student achievement in schools, especially those in need of improvement (as defined by section 1116(b) of the ESEA).

As a result of the competition announced on June 3, 2005, the Department funded 20 Centers—15 Regional Centers and 5 Content Centers—with FY 2005 funds. However, the Department did not fund a Regional Center for the region designated to serve the States of Illinois and Wisconsin, the region identified as the Great Lakes West region.

This notice, therefore, invites applications for a Regional Center to serve the Great Lakes West region so as to complete the Comprehensive Centers program's technical assistance system established by the Department in FY 2005.

For more information on the functions and activities of the five Content Centers funded in FY 2005 and how they relate to the Regional Centers, see 70 FR 32583.

Background on the Comprehensive Centers Program: The ESEA, as amended by the No Child Left Behind Act of 2001 (NCLB), holds States accountable for closing achievement gaps and ensuring that all children, regardless of ethnicity, income, language proficiency, or disability, receive a high-quality education and meet State academic standards in reading/language arts and mathematics by 2013-2014.

To that end, NCLB requires States to set standards for student performance, implement statewide testing and accountability systems to measure school and student performance toward achieving those standards, adopt research-based instructional and program improvements related to teaching and learning in the classroom, ensure that all teachers in core subject areas are highly qualified, and improve or ultimately restructure schools that are consistently low-performing.

The comprehensive centers funded under the Comprehensive Centers program, including the Regional Center funded under this competition, will begin providing technical assistance at a time when States, districts, and schools have accomplished much of the initial implementation of NCLB but still require assistance in many areas.

Specifically, the new centers funded under this program will provide intensive technical assistance in several areas that are key to success in meeting NCLB goals. Recent assessments conducted to help determine technical assistance priorities for the Comprehensive Centers program indicate that States need assistance, for example, in helping districts and schools to implement improvements and meet school and district adequate yearly progress requirements; in identifying and adopting instructional and assessment methods that have been proven effective through scientifically based research, especially for students with special needs; in designing programs and strategies and allocating resources to recruit, retain, and train talented teachers and school leaders; and in enhancing assessment and accountability systems.

Because States have the primary responsibility for school improvement efforts, the comprehensive centers, including the Regional Center funded under this competition, will focus technical assistance on States and on helping States increase their capacity to provide sustained support to districts and schools as they implement NCLB reforms.

The comprehensive centers will serve as field agents for the Department to help further the understanding of the States they serve of the provisions and purposes of NCLB and related Federal programs and help those States adopt proven approaches to achieve the school improvement and student performance goals required under NCLB. The centers will work closely with, and leverage the resources of, other technical assistance providers and research organizations, including the Regional Educational Laboratories, the Special Education Technical Assistance Network, the Parental Information and Resource Centers, the Equity Assistance Centers, the Reading First National Technical Assistance Center, the Institute of Education Sciences' research centers and its What Works Clearinghouse, and other Federal, regional, and State entities and postsecondary institutions, to gather and disseminate information and knowledge about what works and to help States translate that knowledge into meaningful practice.

The approach to technical assistance delivery for the Comprehensive Centers system is two-tiered: the Regional Centers have the primary relationships with, and provide services to, the States in their regions; in serving their State clients, the Regional Centers will draw heavily on the research-based information, products, guidance, and knowledge on key NCLB topics supplied by the Content Centers.

Regional Centers must provide frontline assistance to States to help them implement NCLB and other related Federal school improvement programs and help increase State capacity to assist districts and schools meet their student achievement goals. Regional Centers must be embedded in regions and responsible for developing strong relationships and partnerships within their regional community. While Content Centers must focus almost entirely on specific content areas, analyzing research, and developing useful products and tools for Regional Centers and other clients, the Regional Centers will be the “on-the-ground” providers to States.

Drawing from the information and resources provided by the Content Centers funded through this program and other sources, the Regional Centers must provide a program of technical assistance to States that will enable them to, among other things—

1. Assess the improvement needs of districts and schools and assist them in developing solutions to address those needs;

2. Build and sustain systemic support for district and school improvement efforts to—(a) Close existing achievement gaps; and (b) adopt proven practices to improve instruction and achievement outcomes for students in schools identified as in need of improvement; and

3. Improve the tools and systems for school improvement and accountability for achievement outcomes.

The Department intends to have substantial and sustained involvement in the activities of the center to be funded under this competition, including by shaping grantee priorities, activities, and major products to meet the purposes of this program. The details and parameters of the Department's expectations and involvement with each center funded under this program will be included in the Department's cooperative agreement with the grantee that receives an award for that center.

Regional Advisory Committees: To help inform the Secretary's priorities for the comprehensive centers, the Secretary (in accordance with section 206 of the Educational Technical Assistance Act of 2002 (TA Act)) established 10 Regional Advisory Committees (RACs) charged with conducting education needs assessments within the geographical regions served by the current regional educational laboratories.

The RACs conducted their needs assessments during the period from December 2004 to March 2005 and submitted their reports to the Secretary on March 31, 2005. The full reports are available at: http://www.ed.gov/programs/newccp/index.html.

Applicants for the Regional Center for the Great Lakes West Region are encouraged to consider the specific priorities and recommendations contained in the RAC report for Wisconsin and Illinois when preparing their applications.

Priorities: We are using these priorities in accordance with section 437(d)(1) of the General Education Provisions Act. These absolute priorities are the same priorities established in the FY 2005 Comprehensive Centers competition for all centers and for Regional Centers.

For the Regional Center—Great Lakes West Region award, under 34 CFR 75.105(c)(3) we consider only applications that meet these priorities.

Absolute Priorities

Priority 1—Focus on States: To meet this priority, applicants must propose a plan of technical assistance specifically focused on helping the two States in the Great Lakes West Region (Illinois and Wisconsin) implement the provisions of NCLB applicable to those States, and helping the States in the Great Lakes West region build the capacity to help school districts and schools implement NCLB provisions and programs.

To the extent that an applicant proposes to work with individual school districts and schools, the applicant must propose a technical assistance plan that proposes work with districts and schools only where the effort: (a) Involves a high-leverage strategy (i.e., reaches a large number or proportion of schools, teachers, and administrators needing the assistance within the State); (b) responds to a need identified by the State; and (c) is planned and coordinated with the State.

Note: This priority does not support research, program evaluation, or curriculum development. Thus, an applicant will not satisfy this priority if it proposes a technical assistance plan to—

a. Design or develop curricula or instructional materials for use in classrooms or develop professional development programs where proven models already exist; or

b. Conduct basic research or program evaluations on behalf of States or districts.

Priority 2—Crosscutting Expertise. To meet this priority, an applicant must demonstrate that proposed center staff have expertise on several issues of crosscutting importance related to the delivery of technical assistance in specific regions and content areas. These issues are:

a. Proven strategies for addressing the needs of schools with populations at risk of failure, especially children who have limited proficiency in English, children with disabilities, and children from economically disadvantaged families.

b. Effective uses of technology to improve instruction, and as an efficient means of delivering technical assistance.

c. Implementing school improvement reforms within urban and rural contexts.

Priority 3—Location of Regional Center. In order to meet the requirement of this priority, the proposed Regional Center must be located in and serve the Great Lakes West region defined by the Department as the following States: Illinois and Wisconsin.

Priority 4—Regional Technical Assistance Activities. To meet this priority, the work of the proposed Regional Center must involve activities that address State technical assistance needs by:

(a) Working closely with each State in its region on an ongoing basis;

(b) Linking States with the resources of Content Centers, Department staff, Regional Educational Laboratories, the What Works Clearinghouse, and other entities that have, or may be able to, design products and services tailored to State needs;

(c) Suggesting sources of appropriate service providers or assistance for State activities that are not within the core mission of the centers—including, for example, activities to address needs related to curriculum development, designing school-level training programs, or conducting basic research or impact evaluations;

(d) Assisting State efforts to build statewide systems of support for districts and schools in need of improvement, partly by leveraging the resources of Content Centers and other sources of scientifically based education research and high-quality technical assistance on behalf of State and district clients;

(e) Working to identify, broker, leverage, and deliver information, resources, and services from the Content Centers and other sources that focus on research-based knowledge of promising practices, including assistance to States and districts on securing high-quality consultants and experts to meet specific education needs;

(f) Convening, in partnership with Content Centers and others, as appropriate, States and districts to receive training and information on best practices and research-based improvement strategies;

(g) Providing guidance and training on implementation of requirements under NCLB and other related Federal programs;

(h) Facilitating collaboration at the State level to align Federal, State, district, and school improvement programs and help States understand and use the flexibility provided by NCLB to target resources and programs to address the greatest needs; and

(i) Helping Content Centers to identify, document, and disseminate emerging promising practices by working with States to distill and document the experiences of high-performing districts and schools.

Priority 5—Knowledge and Expertise. To satisfy this priority, the proposed Regional Center must demonstrate in-depth knowledge of regional and local issues, conditions, and needs, particularly as those relate to the roles and responsibilities of States, districts, and schools in implementing the provisions of NCLB and other related Federal programs. In addition, the proposed Regional Center must have expertise in comprehensive planning, needs assessment, and State, district, and school improvement processes.

Priority 6—Coordination and Cooperation. To meet this priority, the proposed Regional Center must create and maintain cooperative working relationships with the States in the Great Lakes West region and other technical assistance providers serving that region, including the Regional Educational Laboratories, the Special Education Technical Assistance Network, Parental Information and Resource Centers, Equity Assistance Centers, the Reading First National Technical Assistance Center, and other regional and State entities, including, for example, regional service providers and postsecondary institutions.

Additional Requirements

1. Plan of Technical Assistance. All applicants under this competition must submit as part of their application a 5-year plan of technical assistance that describes the strategies and approaches the applicant will use to carry out the activities of the proposed center in a manner that addresses the statutory requirements of sections 203 through 207 of the TA Act, and the priorities and additional requirements described in this notice.

2. Focus on Districts and Schools that are High-Need and Identified as in Need of Improvement. Applicants must demonstrate how the proposed plan of technical assistance will give priority to helping States, districts, and schools build the capacity to develop and implement programs targeted specifically to meet the educational needs of students in school districts and schools with high percentages or numbers of school-age children from low-income families, including such school districts and schools in rural and urban areas; and schools in the region that have been identified for school improvement under section 1116(b) of the ESEA.

3. Focus on State/Regional Priorities. Applicants must tailor the strategies and activities they propose to address to the educational priorities and related technical assistance needs of States. The applicant's proposed plan of technical assistance must reflect a thorough understanding of the technical assistance needs and propose strategies that specifically address those needs for the States the Regional Center will serve, considering: (a) The educational goals and priorities of States to be served, including major reform efforts underway; (b) the current status of States in meeting the requirements and goals of NCLB; (c) the types of technical assistance and related strategies that would help States, districts, and schools implement the programs and goals of NCLB and close existing achievement gaps in the content areas; and (d) State and regional student demographics and other contextual factors, such as urban and rural locality.

4. Allocation of Resources. Proposed technical assistance plans must allocate resources to and within States and regions in a manner that reflects the need for assistance, taking into account such factors as the proportion of economically disadvantaged students, the increased cost burden of service delivery in areas of sparse population, and any special initiatives being undertaken by State, intermediate, and local educational agencies, or schools funded under the jurisdiction of the Bureau of Indian Affairs, which may require special assistance from the center.

5. Coordination and Collaboration. Each applicant must describe in its technical assistance plan how the proposed center will: (a) Communicate regularly with the U.S. Department of Education, other comprehensive centers, the Regional Educational Laboratories, State educational agencies, and other technical assistance providers as appropriate; and (b) plan and coordinate activities funded under this competition with the activities of those other entities to leverage available knowledge and resources and avoid duplicating efforts.

6. Advisory Board. Each application must propose, as part of its technical assistance plan, establishing an advisory board to advise the proposed comprehensive center on: (a) The activities of the center relating to its allocation of resources to and within each State in a manner that reflects the need for assistance in accordance with section 203(d) of Title II of the TA Act; (b) strategies for monitoring and addressing the educational needs of the region, on an ongoing basis; (c) maintaining a high standard of quality in the performance of the center's activities; and (d) carrying out the center's duties in a manner that promotes progress toward improving student academic achievement.

The plan must (1) detail the composition of the board by name and affiliation in accordance with the requirements described in section 203 of the TA Act and in the application instructions found in the application package, and (2) include a letter of commitment from each proposed board member. In the alternative to submitting a plan that meets the requirements in (1) and (2) in the previous sentence, an applicant may include, in its plan, a statement of commitment that it will comply with section 203(g) of the TA Act as well as a narrative statement of how the board will operate.

7. Evaluation Plan. Each applicant must provide, as part of its technical assistance plan, a plan to assess: (a) The needs of the States served by the comprehensive center on an ongoing basis, and (b) the progress and performance of the center in meeting the educational needs of its clients. The plan must identify the performance objectives the project intends to achieve and performance measures for each performance objective; explain the quantitative and qualitative methods that will be used to collect, analyze, and report performance data; and describe the methods that it uses to monitor progress and make mid-course corrections, as appropriate.

8. Project Meetings. Applicants must budget for:

(a) The Project Director to attend a 2-day meeting in Washington, DC at least once a year for each year of the project period.

(b) Key staff to attend the following:

(i) A 2-day post-award conference with Department officials in Washington, DC, to be held within 45 days from the grant award date. The purpose of this conference will be to:

• Refine the grantee's technical assistance plan as appropriate;

• Review with the grantee the Department's intentions regarding the role of the grantee's center;

• Define how the grantee's center and the Department will work together as partners to accomplish the purposes of the grant;

• Establish lines of communication and feedback between grantees and the Department;

• Establish content for a cooperative agreement; and

(ii) A 1-day annual performance review with Department officials in Washington DC beginning one year after the post-award conference and each year of the grant thereafter.

Waiver of Proposed Rulemaking: Under the Administrative Procedure Act (5 U.S.C. 553), the Department generally offers interested parties the opportunity to comment on proposed priorities and other non-statutory program requirements. Section 437(d)(1) of the General Education Provisions Act (20 U.S.C. 1232(d)(1)), however, allows the Secretary to exempt from rulemaking requirements, regulations governing the first competition under a new program authority. The Comprehensive Centers—Great Lakes West Regional Center is part of the first competition for new Comprehensive Centers program under Title II of the TA Act and, therefore, qualifies for this exemption. In order to ensure timely grant awards, the Secretary has decided to forego public comment on the absolute priorities, selection criteria and non-statutory requirements under section 437(d)(1). These absolute priorities, selection criteria, and non-statutory requirements will apply to this grant competition only.

Program Authority: 20 U.S.C. 9602-9606.

Applicable Regulations: The Education Department General Administration Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Cooperative agreement.

Number of Awards: 1.

Estimated Available Funds: $1,243,322 for a start-up award of approximately 6 months. The actual level of funding, if any, depends on final congressional action on the Department's FY 2006 appropriations bill.

Estimated Size of Award: $1,243,322. Funding for the Regional Center for the Great Lakes West region was calculated by formula, based equally on shares of population and poor children, ages 5-17 in the States (including DC, Puerto Rico, and the Outlying Areas). The most recent Department estimates for awards to the comprehensive centers, including the Great Lakes West Regional Center, are provided at: http://www.ed.gov/programs/newccp/index.html

Note: The Department is not bound by any estimates in this notice.

Project Period: Up to 57 months.

Budget Period: The first budget period will be approximately six months. Budget periods 2 through 4 will be 12 months. Budget period 5 will be 15 months.

III. Eligibility Information

1. Eligible Applicants

Research organizations, institutions, agencies, institutions of higher education, or partnerships among such entities, or individuals, with the demonstrated ability or capacity to carry out the activities described in this notice. An application from a consortium of eligible entities must include a consortium agreement. Letters of support do not meet the requirement for a consortium agreement.

2. Cost Sharing or Matching

This competition does not involve cost sharing or matching.

IV. Application and Submission Information

1. Address to Request Application Package

You may obtain an application package via the Internet or from the person listed under FOR FURTHER INFORMATION CONTACT in section VII of this notice. To obtain an application via the Internet, use the following address: http://www.ed.gov/programs/newccp/index.html.

If you use a telecommunications device for the deaf (TDD), you may call the Federal Relay Service (FRS) at 1-800-877-8339.

Individuals with disabilities may obtain a copy of the application package in an alternative format (e.g., Braille, large print, audiotape, or computer diskette) by contacting the person listed under FOR FURTHER INFORMATION CONTACT in section VII of this notice.

2. Content and Form of Application Submission: Requirements concerning the content of the application, together with the forms you must submit, are in the application package for this competition.

Page Limit: Applicants are strongly encouraged to limit their application to 150 pages.

3. Submission Dates and Times: Applications Available: October 13, 2005.

Deadline for Transmittal of Applications: November 28, 2005.

Applications for grants under this competition must be submitted electronically using the Electronic Grant Application System (e-Application) available through the Department's e-Grants system. For information (including dates and times) about how to submit your application electronically or by mail or hand delivery if you qualify for an exception to the electronic submission requirement, please refer to section IV. 6. Other Submission Requirements in this notice.

We do not consider an application that does not comply with the deadline requirements.

Deadline for Intergovernmental Review: December 27, 2005.

4. Intergovernmental Review: This program is subject to Executive Order 12372 and the regulations in 34 CFR Part 79. Information about Intergovernmental Review of Federal Programs under Executive Order 12372 is in the application package for this competition.

5. Funding Restrictions: We reference regulations outlining funding restrictions in the Applicable Regulations section of this notice.

6. Other Submission Requirements: Applications for grants under this competition must be submitted electronically unless you qualify for an exception to this requirement in accordance with the instructions in this section.

a. Electronic Submission of Applications. Applications for grants under the Comprehensive Centers— Great Lakes West Region Competition CFDA Number 84.283B must be submitted electronically using e-Application available through the Department's e-Grants system, accessible through the e-Grants portal page at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30 p.m., Washington, DC time, on the application deadline date. The e-Application system will not accept an application for this competition after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you qualify for an exception to the electronic submission requirement, as described elsewhere in this section, and submit your application in paper format.

• You must submit all documents electronically, including the Application for Federal Education Assistance (ED 424), Budget Information—Non-Construction Programs (ED 524), and all necessary assurances and certifications. You must attach any narrative sections of your application as files in a .DOC (document), .RTF (rich text), or .PDF (Portable Document) format. If you upload a file type other than the three file types specified above or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the ED 424 to the Application Control Center after following these steps:

(1) Print ED 424 from e-Application.

(2) The applicant's Authorizing Representative must sign this form.

(3) Place the PR/Award number in the upper right hand corner of the hard-copy signature page of the ED 424.

(4) Fax the signed ED 424 to the Application Control Center at (202) 245-6272.

• We may request that you provide us original signatures on other forms at a later date.

Application Deadline Date Extension in Case of e-Application System Unavailability: If you are prevented from electronically submitting your application on the application deadline date because the e-Application system is unavailable, we will grant you an extension of one business day to enable you to transmit your application electronically, by mail, or by hand delivery. We will grant this extension if—

(1) You are a registered user of e-Application and you have initiated an electronic application for this competition; and,

(2)(a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If the system is down and therefore the application deadline is extended, an e-mail will be sent to all registered users who have initiated an e-Application. Extensions referred to in this section apply only to the unavailability of the Department's e-Application system.

Exception to Electronic Submission Requirement: You qualify for an exception to the electronic submission requirement, and may submit your application in paper format, if you are unable to submit an application through the e-Application system because—

• You do not have access to the Internet; or

• You do not have the capacity to upload large documents to the Department's e-Application system;

and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Enid Simmons, U.S. Department of Education, 400 Maryland Avenue, SW., room 3E307, Washington, DC 20202. FAX: (202) 250-5870.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: CFDA Number 84.283B, 400 Maryland Avenue, SW., Washington, DC 20202-4260.

By mail through a commercial carrier: U.S. Department of Education, Application Control Center—Stop 4260, Attention: (CFDA Number 84.283B), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to electronic submission requirement, you (or a courier service) may deliver your paper application to the Department by hand. You must deliver the original and two copies of your application, by hand, on or before the application deadline date, to the Department at the following address: U.S. Department of Education, Application Control Center, Attention: (CFDA Number 84.283B), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: We will use the following selection criteria to evaluate applications under this competition. The maximum score for each criterion is indicated in parentheses with the criterion. The maximum number of points an application may earn based on the selection criteria is 100 points.

a. Need for the Center (10 Points)

In determining the need for the proposed center, the Secretary considers the following:

(i) The extent to which the proposed plan of technical assistance presents strategies that address the priority technical assistance needs of States as evidenced by in-depth knowledge and understanding of—

(A) The specific educational goals and priorities of the States to be served by the center, including relevant major reform efforts underway;

(B) The status of States in meeting the requirements of NCLB, including the number and proportion of districts and schools in need of improvement within each State, the number and proportion of students not meeting State standards in reading and mathematics; and

(C) Applicable State and regional demographics and other contextual factors and their relevance for the purposes, goals, and challenges for implementing the provisions of NCLB.

(ii) The likelihood that activities of the proposed center will result in products and services that are of high quality, high relevance, and high usefulness to clients.

b. Significance (10 Points)

In determining the significance of the proposed center, the Secretary considers the following:

(i) The extent to which the proposed technical assistance plan presents an approach that will likely result in systems change or improvement at the State or district levels.

(ii) The potential contribution of the center proposal to increase knowledge or understanding of effective strategies.

(iii) The importance of outcomes likely to be attained by the proposed center, especially improvements in teaching and student achievement.

c. Quality of the Project Design (25 Points)

In determining the quality of the design of the proposed center, the Secretary will consider the following factors:

(i) The extent to which the application proposes an exceptional approach for carrying out the purposes and activities for the center for which the applicant is applying.

(ii) The extent to which the application proposes high-leverage approaches that focus assistance at the State level and on helping States build capacity to support district and school improvement and programs.

(iii) The extent to which the proposed technical assistance plan reflects in-depth knowledge and understanding of NCLB, as well as supporting regulations and guidance pertinent to carrying out the purposes and activities of the center for which the applicant is applying.

(iv) The extent to which the proposed technical assistance plan reflects in-depth knowledge and understanding of available scientifically valid, research-based and/or evidence-based practices to improve student achievement and close achievement gaps and demonstrates knowledge of and access to reliable sources for obtaining such knowledge on an ongoing basis.

(v) The extent to which the proposed technical assistance plan reflects in-depth knowledge and understanding of current scientifically valid, research-based and/or evidence-based technical assistance methods and practices.

d. Quality of Project Personnel and Adequacy of Grantee Resources (25 Points).

In determining the quality of project personnel, the Secretary considers the extent to which the applicant encourages applications for employment from persons who are members of groups that have traditionally been underrepresented based on race, color, national origin, gender, age, or disability.

In addition, the Secretary will consider the following factors under this criterion:

(i) The extent to which the application presents evidence of professional preparation and successful prior experience of the center director and other key staff, including sub-grantees and key consultants and partners that would indicate that each has the knowledge, skills and ability to successfully carry out the responsibilities they are assigned. For example, the extent to which the application presents evidence of expertise and demonstrated successful experience assisting States with comprehensive planning, needs assessments and implementing school improvement programs and processes, with a particular focus on improving outcomes for students at risk of failure, including students from low-income families, disabled students, students with limited proficiency in English, and migrant students.

(ii) The extent to which proposed center staff have expertise using technology to deliver technical assistance and implementing school improvement reforms within urban and rural contexts.

(iii) The extent to which the applicant has demonstrated experience providing technical assistance and professional development in reading, mathematics, science and technology, especially in schools and districts identified as in need of improvement.

(iv) The extent to which the applicant has prior relevant experience operating a project of the scope required for the purposes of the center being proposed.

(v) The extent to which the application proposes an advisory board membership in accordance with the requirements of the TA Act and includes reasonable assurance of their commitment to serve on the board. The extent to which the resources and plans for the board's operation are reasonable and cost-efficient.

(vi) The adequacy of resources for the proposed project, including facilities and equipment, to successfully carry out the purposes and activities of the proposed project.

e. Quality of the Management Plan (20 Points)

In determining the quality of the management plan for the proposed project, the Secretary will consider the following factors:

(i) The extent to which resources are allocated within the region in a manner that reflects the need for assistance.

(ii) The adequacy of the management plan to achieve the objectives of the project on time and within budget, including clearly defined responsibilities, timelines, and milestones for accomplishing project tasks.

(iii) The extent to which the time commitments of the project director and other key project personnel are appropriate and adequate to meet the objectives of the proposed project.

(iv) The adequacy of procedures for ensuring feedback on performance measures and continuous improvement in the operation of the proposed project.

(v) The extent to which the application proposes exceptional, innovative and workable approaches and plans to—

(A) Communicate on an ongoing basis with other comprehensive centers, as appropriate, the Regional Educational Laboratories, the client State educational agencies and other technical assistance providers serving the region; and

(B) Coordinate the plans and activities funded by this grant with the plans and activities of the State and other agencies, in order to leverage resources, avoid duplications and otherwise maximize the effectiveness of services; and make effective use of available technologies to widely disseminate information about proven practices.

f. Quality of the Project Evaluation (10 Points)

In determining the quality of the evaluation plan, the Secretary will consider the following factors:

(i) The extent to which the performance goals and objectives for the project are clearly specified and measurable in terms of the project activities to be accomplished and their stated outcomes for clients.

(ii) The extent to which the methods for monitoring performance and evaluating the effectiveness of project strategies in terms of outcomes for clients are thorough, feasible, and appropriate to the goals, objectives, and outcomes of the proposed project.

(iii) The extent to which the methods of evaluation will provide continuous performance feedback and permit the continuous assessment of progress toward achieving intended outcomes.

(iv) The extent to which the applicant demonstrates a strong capacity to provide reliable data on performance measures.

VI. Award Administration Information

1. Award Notices: If your application is successful, we notify your U.S. Representative and U.S. Senators and send you a Grant Award Notification (GAN). We may also notify you informally.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project, you must submit a final performance report, including financial information, as directed by the Secretary. If you receive a multi-year award, you must submit an annual performance report that provides the most current performance and financial expenditure information as specified by the Secretary in 34 CFR 75.118.

4. Performance Measures: To evaluate the overall success of the Comprehensive Centers program, beginning in FY 2006, the Department will use three performance measures to assess the quality, relevance, and usefulness of center activities funded under this competition. These new measures, adapted from a set of common measures developed to help assess performance across the Department's technical assistance programs, are: (1) The percentage of technical assistance services that are deemed to be of high quality by an independent review panel of expert stakeholders; (2) the percentage of technical assistance services that are deemed to be of high relevance to educational policy or practice by an independent review panel of qualified practitioners; and (3) the percentage of technical assistance services that are deemed to be of high usefulness to educational policy or practice by target audiences.

All grantees, including the Great Lakes West Regional Center, will be expected to submit, as part of their performance report, quantitative data documenting their progress with regard to these performance measures. The Department will provide information to grantees about the independent panels conducting the review, the review process, and the definitions and criteria that will be used to evaluate the quality, relevance and usefulness of technical assistance services.

VII. Agency Contact

FOR FURTHER INFORMATION CONTACT: Enid Simmons, U.S. Department of Education, 400 Maryland Avenue, SW., room 3E307, Washington, DC 20202-6335. Telephone: (202) 401-0039 or by e-mail: OESE.cc@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: October 7, 2005.
Henry Johnson,
Assistant Secretary for Elementary and Secondary Education.

[FR Doc. 05-20566 Filed 10-12-05; 8:45 pm]

BILLING CODE 4000-01-P